DEPARTMENT OF COMMERCE

National Oceanic and Atmospheric Administration

[I.D. 012204C]

Antarctic Marine Living Resources Convention Act of 1984; Conservation and Management Measures

AGENCY: National Marine Fisheries Service (NMFS), National Oceanic and Atmospheric Administration (NOAA), Commerce.

ACTION: Final notification of conservation and management measures.

SUMMARY: At its twenty-second meeting in Hobart, Tasmania, October 21 to November 7, 2003, the Commission for the Conservation of Antarctic Marine Living Resources (the Commission or CCAMLR), of which the United States is a member, adopted conservation and management measures, pending members’ approval, pertaining to fishing in the CCAMLR Convention Area in Antarctic waters. The measures have been agreed upon in accordance with Article IX of the Convention on the Conservation of Antarctic Marine Living Resources (the Convention) and are in effect with respect to the United States.

DATES: Effective March 4, 2004.

ADDRESSES: Copies of the CCAMLR conservation and management measures may be obtained from the Assistant Administrator for Fisheries, NOAA, National Marine Fisheries Service, 1315 East-West Highway, Silver Spring, MD 20910.

FOR FURTHER INFORMATION CONTACT: Robin Tuttle, 301-713-2282.

SUPPLEMENTARY INFORMATION:

Background

Individuals interested in CCAMLR and the Convention Area should see 68 FR 70554 (December 18, 2003) and 50 CFR part 300, subpart G - Antarctic Marine Living Resources.

The conservation and management measures adopted by the twenty-second meeting of CCAMLR restrict overall catches and bycatch of certain species of fish, krill and crab; limit participation in several exploratory fisheries; restrict fishing in certain areas and to certain gear types; set fishing seasons; and amend an annex to the catch documentation scheme (CDS) for Dissostichus (toothfish) species. The Commission urges several actions by its members to improve compliance with CCAMLR conservation and management measures.

The full text of the measures and resolutions were included in a preliminary notice published in the Federal Register on December 18, 2003 (68 FR 70554) by the Department of State. Public comments were invited on the notice, but no public comments were received. Through this action, NMFS notifies the public that the United States has accepted the measures adopted at CCAMLR’s twenty-second meeting.

Compliance

A resolution adopted at the nineteenth meeting of CCAMLR was amended at the twenty-second meeting to urge all contracting parties, when licensing vessels to fish for toothfish, to require as a condition of that license that the vessel land toothfish only in ports of states that are fully implementing the CDS.

The Commission adopted a list of illegal, unregulated and unreported fishing vessels (the IUU vessel list) for vessels suspected of IUU fishing or trading and has placed it on a password-protected section on the CCAMLR website. All CCAMLR members are urged to prohibit trade with these IUU vessels. NMFS intends to implement a prohibition on the importation of toothfish harvested by vessels identified on the CCAMLR IUU vessel list in a future rulemaking.

The Commission agreed to support a trial centralized vessel monitoring system (C-VMS) to be operated from the CCAMLR Secretariat during the 2003/2004 fishing season and open to all members who choose to participate. The United States will participate in the trial.

Catch Documentation Scheme (CDS)

The CDS measure is revised to require that all landings of toothfish be authorized on all Dissostichus Catch Documents (DCD) by the signature of an official of the port of landing, acting under the customs or fisheries authority of the port state. Pursuant to this revision, the United States will no longer accept DCDs signed by other than by an authorized customs or fisheries official of the port state. DCDs signed by the China Fisheries Association, an industry entity, will no longer be accepted.

The Commission also agreed to continue the electronic web-based CDS (E-CDS) trial through the October 2004 meeting of CCAMLR and to include all interested parties. The United States will continue its participation in the trial.

Incidental Mortality of Seabirds

The measure to minimize the incidental mortality of seabirds in the course of longline fishing or longline fishing research is amended by removing the mandatory requirements for thawed bait; by adding advisory measures for line weighting for autoliners; by requiring the use of a device designed to discourage birds from accessing baits during the haul of longlines in areas defined by CCAMLR as average-to-high or high risk of seabird bycatch; and by revising the specifications for the mandatory use of streamer lines.

Small-scale Research Units (SSRU)

The Commission endorsed its Scientific Committee’s revision of SSRUs in Subarea 88.1 to better capture the irregular shapes of the bathymetric features and fishing grounds in the subarea. This revision resulted in 12 new SSRUs that are more similar in size to those in other Convention Subareas.

Prohibitions on Directed Fishing

The Commission prohibited directed fishing for Dissostichus species from December 1, 2003, to November 30, 2004, in Statistical Subareas 48.5, 88.2 (north of 65°00′S) and 88.3, and Divisions 58.5.1 outside the French Exclusive Economic Zone (EEZ), and 58.5.2 (east of 79°20′E) and outside the Australian EEZ to the west of 79°20′E.

The Commission continued the prohibitions on directed fishing for Dissostichus species in Statistical Division 58.4.4 and Subareas 58.6 and 58.7 outside areas of national jurisdiction until such time that further scientific information is gathered and reviewed by the Scientific Committee and its Working Group on Fish Stock Assessment.

Longstanding prohibitions on directed fishing for certain other finfish species remain in effect.

Dissostichus Species

The Commission revised the general measures for exploratory fisheries for Dissostichus species by removing catch limits in fine-scale rectangles; by removing soak time constraints for longlines; by revising the boundaries of SSRUs and introducing new SSRUs; and unless otherwise specified, by setting a catch limit of 100 tons in any SSRU excluding Subarea 88.2.

The Commission set a catch limit of 4,420 tons for the longline fishery for D. eleginoides in Subarea 48.3 in the 2003/2004 season, counting any catch of D. eleginoides taken in other finfish fisheries in Subarea 48.3 against the catch limit.

The Commission set a combined catch limit of 2,873 tons for trawl fishing for D. eleginoides in Division 58.5.2 during the December 1, 2003, to November 30, 2004, season and for longline fishing for D. eleginoides in Division 58.5.2 (west of 79°20′E) from May 1, 2004, to August 31, 2004.

The Commission designated several Dissostichus fisheries as exploratory fisheries for the 2003/2004 fishing season. These fisheries are total allowable catch fisheries and are open only to the flagged vessels of countries that notified CCAMLR of an interest by named vessels in the fisheries.

The exploratory fisheries for Dissostichus species authorized by the Commission for the 2003/2004 fishing season include the following: (1) longline fishing in Statistical Division 58.4.1 by Argentina, Australia and the United States; (2) longline fishing in Statistical Subarea 48.6 by Argentina, Japan, Namibia, New Zealand, Spain and South Africa; (3) longline fishing in Statistical Division 58.4.2 by Argentina, Australia, Russia, Ukraine and the United States; (4) longline fishing in Statistical Division 58.4.3a (the Elan Bank) outside areas under national jurisdiction by Argentina, Australia, Russia, Ukraine and the United States; (5) longline fishing in Statistical Division 58.4.3b (the BANZARE Bank) by Argentina, Australia, Russia, Ukraine and the United States; (6) trawl fishing in Statistical Division 58.4.3b (the BANZARE Bank) by one Australian vessel; (7) longline fishing in Statistical Subarea 88.1 by Argentina, Japan, Korea, New Zealand, Norway, Russia, South Africa, Spain, Ukraine, United Kingdom, United States and Uruguay; and (8) longline fishing in Statistical Subarea 88.2 by Argentina, Korea, New Zealand, Norway, Russia, South Africa and Ukraine.

Champsocephalus gunnari

The Commission set the overall catch limit for C.gunnari in Statistical Subarea 48.3 for the 2003/2004 season at 2,181 tons and continued previously adopted restrictions on the fishery.

The Commission also set the catch limit for C. gunnari within defined areas of Statistical Division 58.5.2 for the 2003/2004 season at 292 tons and continued previously adopted restrictions on, and reporting requirements for, the fishery.

Electrona carlsbergi

The Commission agreed that the fishery for E. carlsbergi in Statistical Subarea 48.3 had lapsed. Consequently, the Commission has prohibited directed fishing on the species in Subarea 48.3 until further research has been conducted and a decision that the fishery be reopened is made by the Commission based on the advice of the Scientific Committee.

Other Finfish

The Commission limited the exploratory fishery for Macrourus species in Statistical Divisions 58.4.3a and 58.4.3b in the 2003/2004 fishing season to one Australian-flagged trawler and set the catch limits at 26 and 129 tons respectively.

The Commission also set a total precautionary catch limit of 1000 tons for Chaenodraco wilsoni, and 500 tons each for Lepidonotothen kempi, Trematomas eulepidotus and Pleuragramma antarcticum for the 2003/2004 fishing season.

Crab

The Commission set the total allowable catch level for the pot fishery for crab for the 2003/2004 fishing season at 1,600 tons and continued to limit participation to one vessel per member country.

Squid

The Commission set the total allowable catch limit for the exploratory jig fishery for Martialia hyadesi for the 2003/2004 fishing season at 2,500 tons.

Krill

The Commission carried forward the precautionary catch limits for krill in Statistical Area 48 at 4.0 million tons overall and, as divided by subareas, at 1.008 million tons in Subarea 48.1, 1.104 million tons in Subarea 48.2, 1.056 million tons in Subarea 48.3, and 0.832 million tons in Subarea 48.4.

Bycatch

The Commission revised the limitations on bycatch in new and exploratory fisheries in Statistical Division 58.5.2 for the 2003/2004 season.

The Commission also revised the bycatch limits in all new and exploratory fisheries for the 2003/2004 season in all areas containing SSRUs (Statistical Subareas 48.6, 88.1 and 88.2, and Statistical Subdivisions 58.4.2, 58.4.3a, 58.4.3b) for all Macrourus, skates and rays, and other species.

Authority: 16 U.S.C. 2431 et seq.

Dated: March 1, 2004.
Rebecca Lent,
Deputy Assistant Administrator for Regulatory Programs

[FR Doc. 04-4870 Filed 3-3-04; 8:45 am]

BILLING CODE 3510-22-S